DEPARTMENT OF COMMERCE

National Oceanic and Atmospheric Administration

RIN 0648-XD885

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that an exempted fishing permit application contains all of the required information and warrants further consideration. This exempted fishing permit would allow up to three commercial fishing vessels to conduct exploratory fishing in year-round groundfish closed areas (Closed Areas I and II) for the purposes of obtaining fisheries dependent catch information. This research is being conducted by Atlantic Trawlers Fishing, Inc.

Regulations under the Magnuson-Stevens Fishery Conservation and Management Act require publication of this notification to provide interested parties the opportunity to comment on applications for proposed exempted fishing permits.

DATES: Comments must be received on or before April 23, 2015.

ADDRESSES: You may submit written comments by any of the following methods:

• Email nmfs.gar.efp@noaa.gov. Include in the subject line “Comments on Exploratory Closed Area Fishing EFP.”

• Mail: John K. Bullard, Regional Administrator, NMFS, NE Regional Office, 55 Great Republic Drive, Gloucester, MA 01930. Mark the outside of the envelope “Comments on Closed Area Exploratory Fishing EFP.”

FOR FURTHER INFORMATION CONTACT: Brett Alger, Fisheries Management Specialist, 978-675-2153, brett.alger@noaa.gov.

SUPPLEMENTARY INFORMATION: In a 2014 proposed rule for Northeast Multispecies Sectors that would have allowed vessels using selective trawl gear into portions of year-round Georges Bank (GB) groundfish closed areas (CAs) I and II, we announced interest in gathering catch data from these areas through exempted fishing permits (EFPs) (79 FR 14639, March 17, 2014). Because many of these areas have been closed to groundfish bottom trawling for nearly 20 years, fisheries dependent data collected through an EFP would help inform whether to allow conditional access to CAs I and II to sector vessels through the sector exemption process. Data from vessels operating under an EFP may be used to characterize catch rates of target and non-target species in the CAs, as well as help inform industry on the economic feasibility of industry-funded monitoring for trips into CAs I and II.

In April 2014, we announced our intention to issue an EFP to Atlantic Trawlers Fishing, Inc. (79 FR 23940, April 29, 2014). In May 2014, an EFP was issued that authorized vessels to fish inside portions of groundfish CA I and CA II during specified times of the fishing year. For more details on the original application and objectives of this EFP, reference last year's notice or visit http://www.greateratlantic.fisheries.noaa.gov/mediacenter/2014/EFPsgroundfish_closed_areas.html. Additionally, for preliminary catch information from Atlantic Trawlers Fishing, Inc., visit http://www.greateratlantic.fisheries.noaa.gov/aps/monitoring/nemultispecies.html.

Due to several factors, including catch rates, time and area access to CAs I and II, and weather, only 12 trips were taken under the EFP in fishing year 2014. Because there were a limited amount of trips and, therefore, not enough information to make a determination on whether or not to approve access to CAs I and II through the sector exemption process, we did not approve access for sectors in fishing year 2014. Additionally, we did not propose to allow sector vessels access to CAs I and II for fishing year 2015 (80 FR 12380, March 19, 2015), however, Atlantic Trawlers Fishing, Inc., has requested an EFP renewal for fishing year 2015 to continue collecting data under the same exemptions as their previous EFP.

Atlantic Trawlers Fishing, Inc., seeks to address five objectives as follows: (1) Generate data on the composition of catch, including presence and absence of target (e.g., GB haddock) and non-target species; (2) test the effectiveness of utilizing gear comparable to the Canadian haddock fishery on GB (e.g., haddock separator trawl with 5.1-inch (13-cm) square mesh codend) to improve haddock selectivity, catch ratios, and improved annual catch limit (ACL) utilization rates; (3) collect data to examine the economic feasibility of an industry funded monitoring program for CA trips; (4) test the effectiveness of providing access to portions of the existing CAs for improving utilization rates of GB haddock; and (5) collect information from CAs I and II so that we may conduct analyses to determine whether fishing can be allowed at a level of observer coverage of less than 100 percent, should an exemption be considered and approved.

To fulfill these objectives, three vessels would be allowed to use nets with either a haddock separator trawl or a Ruhle trawl, fitted with either a 6-inch (15.2-cm) diamond mesh codend (currently allowed in the fishery) or a 5.1-inch (13-cm) square mesh codend (not currently allowed in the fishery). The applicant claims that the 5.1-inch (13-cm) square mesh codend will improve their ability to target legal-size haddock while maintaining the ability to filter out small non-target catch, including sub-legal haddock. Preliminary results indicate that the two codends have similar selectivity characteristics, but additional replicates are needed. In addition, for sampling purposes, vessels would be authorized to temporarily retain sub-legal fish, and fish in excess of possession limits. All undersized fish and fish in excess of possession limits would be discarded as soon as practicable following data collection. All three vessels would be accompanied by a technician with an at-sea monitor certification and equipped with echo sounders that operate on multiple frequencies, which provide the capability of revealing fish size distribution and bottom hardness.

For CA I, vessels would have access from May 1, 2015, through February 15, 2016, but would not be given access to areas within CA I that are existing Habitat Management Areas. Additionally, vessels would not be given access to areas that are Habitat Management Area alternatives contained in the Council's draft Omnibus Habitat Amendment as of April 30, 2015. We have raised concerns about spawning of groundfish in CA I from January 1 to February 15, but Atlantic Trawlers Fishing, Inc., has requested access for this period to collect information to address questions about spawning fish.

For CA II, vessels would have access from May 1, 2015, through June 15, 2015, and then from November 1, 2015, through February 15, 2016, but would not be given access to areas within CA II that are existing Habitat Management Areas. Additionally, vessels would not be given access to areas that are Habitat Management Area alternatives contained in the Council's draft Omnibus Habitat Amendment as of April 30, 2015. Similar to CA I, we have raised concerns about spawning of groundfish in CA II from January 1 to February 15, but Atlantic Trawlers Fishing, Inc., has requested access for this period to collect information to address questions about spawning fish. The dates for CA II access reflect an agreement between sector trawl fishermen and the lobster industry to avoid gear conflicts. Atlantic Trawlers Fishing, Inc., would not access portions of CA II from June 15 through November 1, the time period that the lobster industry is allowed access.

Atlantic Trawlers Fishing, Inc., requests issuance of the EFP for the entire fishing year in order to use a smaller mesh codend throughout the year, but access to the closed areas would be for only portions of the year. Fishing effort under the EFP would be heavily dependent upon operational decisions dictating whether to fish within CAs I and II, as compared to outside the areas. As previously described, Atlantic Trawlers Fishing, Inc., has stated that the directed haddock fishery is highly dynamic and requires a high degree of mobility. If approved, the three participating vessels would focus on the directed haddock fishery throughout the study period, and make tows both inside and outside the CAs on the same trip. Vessel tow duration would vary from 30 minutes to 3 hours, and tow time and speed would be at the discretion of the vessel operator. However, in order to conduct statistical comparisons between meshes or areas, the vessels would be required to conduct some tows in a specific sequence and for a specified amount of time. While this may be disruptive to the commercial enterprise, it would ensure that codend comparison data are representative of the fishery and can be used to inform any potential future management decisions. Trawling would occur up to 18 hours per fishing day, an average trip would last seven days (five days fishing and two days steaming), and there would be an average of three trips total, per month. Under the EFP in fishing year 2014, this would have resulted in approximately 72 trips, however, Atlantic Trawlers Fishing, Inc., only took the 12 trips. Under the renewed EFP, vessels would be limited to the remaining amount of trips (i.e., 60), but anticipate taking far fewer than that amount.

All legal sized fish will be landed and sold with all proceeds retained by the vessel owner. All three vessels are members of the Sustainable Harvest Sector (SHS) and all catch of allocated stocks (e.g., haddock, cod) would be accounted for under the annual catch entitlements (ACEs) of the SHS. If the SHS exceeds its ACE for an allocated stock, it would need to lease in additional ACE in order to continue fishing.

If approved, Atlantic Trawlers Fishing, Inc., may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 3, 2015.
Emily H. Menashes,
Acting Director, Office of Sustainable Fisheries, National Marine Fisheries Service.

[FR Doc. 2015-08056 Filed 4-7-15; 8:45 am]

BILLING CODE 3510-22-P